DEPARTMENT OF TRANSPORTATION

Coast Guard

33 CFR Part 165

[CGD01-01-164]

RIN 2115-AA97

Safety and Security Zones; Coast Guard Force Protection for Station Jonesport, Jonesport, Maine; Coast Guard Group Southwest Harbor, Southwest Harbor, Maine; and Station Rockland, Rockland Harbor Maine

AGENCY: Coast Guard, DOT.

ACTION: Temporary final rule.

SUMMARY: The Coast Guard is establishing temporary safety and security zones in the waters surrounding Coast Guard facilities located in Jonesport, Maine; Southwest Harbor, Maine; and Rockland, Maine. These security and safety zones are needed to safeguard Coast Guard facilities, vessels and personnel from potential future sabotage or other subversive acts, accidents or other causes of a similar nature. Entry or movement within these zones by any vessel of any description whatsoever, without the express authority of the Captain of the Port, Portland, or his authorized patrol representative, is strictly prohibited.

EFFECTIVE DATE: This section is effective from 6 p.m. September 19, 2001 until March 17, 2002.

ADDRESSES: Documents as indicated in this preamble are available for inspection or copying at Marine Safety Office Portland, Maine, 103 Commercial Street, Portland, Maine between 8 a.m. and 4 p.m., Monday through Friday, except Federal Holidays.

FOR FURTHER INFORMATION CONTACT: Lieutenant (Junior Grade) W. W. Gough, Chief, Ports and Waterways Safety Branch, Port Operations Department, Captain of the Port, Portland, Maine at (207) 780-3251.

SUPPLEMENTARY INFORMATION:

Regulatory History

Pursuant to 5 U.S.C. 553, a notice of proposed rulemaking (NPRM) was not published for this regulation. Good cause exists for not publishing a NPRM and for making this regulation effective in less than 30 days after publication in the Federal Register. Due to the catastrophic nature and extent of damage realized from the aircraft crashes into the World Trade Center towers, this rulemaking is urgently necessary to protect the national security interests of the United States against future potential terrorist strikes against governmental targets. Any delay in the establishment and enforcement of this regulation's effective date would be unnecessary and contrary to public interest and national security since immediate action is needed to protect Coast Guard Group Southwest Harbor Base, Southwest Harbor, Maine; Coast Guard Station Jonesport, Jonesport, Maine; and Coast Guard Station Rockland, Rockland Harbor; Maine's facilities, vessels and personnel; as well as the public and maritime community, from potential terrorist attacks. The public will be kept appraised of the safety and security zones and respective changes via Broadcast Notice to Mariners.

Background and Purpose

On September 11, 2001, both towers of the World Trade Center, New York City, New York, were destroyed as a result of two commercial airliner crashes, an act that can only be explained as resulting from terrorist attacks. This regulation establishes three safety and security zones in the waters immediately surrounding the Coast Guard facilities in Southwest Harbor, Rockland, and Jonesport Maine: (1) All the waters off of Station Jonesport, Jonesport, Maine, within a 75-yard radius of 44° 31′ 38″ N, 067°36′ 58″ W; (2) all the waters of Southwest Harbor, Maine off of Coast Guard Base Southwest Harbor, (a) within a 60-yard radius of 44° 16′ 30″ N, 068° 18′ 45″ W; and (b) within a 20-yard radius of 44° 16′ 30″ N, 068° 18′ 47″ W; and (3) all the waters of Rockland Harbor, Maine off of Station Rockport (a) within a 75-yard radius of 44° 06′ 16″ N, 069° 06′ 04″ W; and (b) within a 60-yard radius of 44° 06′ 19″ N, 069° 06′ 07″ W. The safety and security zones have identical boundaries, and restrict entry into or movement within the waters of Southwest Harbor, Jonesport Harbor and Rockland Harbor. The safety and security zones are necessary to protect Coast Guard personnel, facilities, the public and the surrounding area from sabotage or other subversive acts, accidents, or events of a similar nature. All persons other than those approved by the Captain of the Port or his authorized patrol representative are prohibited from entering into or moving within the zones without the prior approval of the Captain of the Port. The public will be notified of the safety and security zones via Broadcast Notice to Mariners.

Regulatory Evaluation

This temporary final rule is not a significant regulatory action under section 3(f) of Executive Order 12866 and does not require an assessment of potential costs and benefits under section 6(a)(3) of that order. The Office of Management and Budget has not reviewed it under that Order. It is not significant under the regulatory policies and procedures of the Department of Transportation (DOT) (44 FR 11040; February 26, 1979). The Coast Guard expects the economic impact of this proposal to be so minimal that a full Regulatory Evaluation under paragraph 10e of the regulatory policies and procedures of DOT is unnecessary for the following reasons: These safety and security zones limit movement within only a portion of Southwest Harbor, Jonesport and Rockland Harbors, allowing vessels to safely navigate around the safety and security zones without delay, and maritime advisories will be made to advise the maritime community of the safety and security zones.

Small Entities

Under the Regulatory Flexibility Act (5 U.S.C. 601 et seq.), the Coast Guard must consider whether this proposal will have a significant economic impact on a substantial number of small entities. “Small entities” may include (1) small businesses and not-for-profit organizations that are independently owned and operated and are not dominant in their fields and (2) governmental jurisdictions with populations of less than 50,000.

For the reasons addressed under the Regulatory Evaluation above, the Coast Guard expects the impact of this regulation to be minimal and certifies under 5 U.S.C. 605(b) that this final rule will not have a significant economic impact on a substantial number of small entities.

Collection of Information

This rule contains no collection of information requirements under the Paperwork Reduction Act of 1995 (44 U.S.C. 3501 et seq.).

Federalism

The Coast Guard has analyzed this rule under the principles and criteria contained in Executive Order 13132 and have determined that this rule does not have sufficient federalism implications for Federalism under that order.

Unfunded Mandates Reform Act

The Unfunded Mandates Reform Act of 1995 (2 U.S.C. 1531-1538) governs the issuance of Federal regulations that require unfunded mandates. An Unfunded Mandate is a regulation that requires a state, local or tribal government or the private sector to incur costs without the Federal government's having first provided the funds to pay those costs. This rule will not impose an Unfunded Mandate.

Taking of Private Property

This rule will not affect a taking of private property or otherwise have taking implications under Executive Order 12630, Governmental Actions and Interference with Constitutionally Protected Property Rights.

Civil Justice Reform

This rule meets applicable standards in section 3(a) and 3(b)(2) of Executive Order 12988, Civil Justice Reform, to minimize litigation, eliminate ambiguity and reduce burden.

Protection of Children

The Coast Guard has analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Environment

The Coast Guard has considered the environmental impact of this regulation and concluded that, under Figure 2-1, paragraph 34(g) of Commandant Instruction M16475.1D, this rule is categorically excluded from further environmental documentation.

Energy Effects

The Coast Guard has analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Security measures, Waterways.

Regulation

For the reasons set out in the preamble, the Coast Guard amends 33 CFR part 165 as follows:

1. The authority citation for part 165 continues to read as follows:

Authority: 33 U.S.C. 1231; 50 U.S.C. 191; 33 CFR 1.05-1(g), 6.04-1, 6.04-6, 160.5; 49 CFR 1.46.

2. Add temporary § 165.T01-164 to read as follows:

§ 165.T01-164 Coast Guard Force Protection for Coast Guard Group Southwest Harbor, Maine, Station Jonesport, Maine and Station Rockland, Maine.

(a) Location. The following are safety and security zones: (1) All the waters off of Station Jonesport, Jonesport, Maine, within a 75-yard radius of 44° 31′ 38″ N, 067°36′ 58″ W; (2) all the waters of Southwest Harbor, Maine off of Coast Guard Base Southwest Harbor, (i) within a 60-yard radius of 44° 16′ 30″ N, 068° 18′ 45″ W; and (ii) within a 20-yard radius of 44° 16′ 30″ N, 068° 18′ 47″ W; and (3) all the waters of Rockland Harbor, Maine off of Station Rockport (i) within a 75-yard radius of 44° 06′ 16″ N, 069°06′ 04″ W; and (ii) within a 60-yard radius of 44° 06′ 19″ N, 069°06′ 07″ W.

(b) Effective date. This section is effective from 6 p.m. September 19, 2001 until March 17, 2002.

(c) Regulations. (1) In accordance with the general regulations in §§ 165.23 and 165.33 of this part, entry into or movement within this zone is prohibited unless previously authorized by the Captain of the Port Portland.

(2) All persons and vessels shall comply with the instructions of the Captain of the Port or the designated on-scene U.S. Coast Guard patrol personnel. On-scene Coast Guard patrol personnel include commissioned, warrant, and petty officers of the Coast Guard on board Coast Guard, Coast Guard Auxiliary, local, state, and federal law enforcement vessels. Emergency response vessels are authorized to move within the zone, but must abide by restrictions imposed by the Captain of the Port.

(3) No person may swim upon or below the surface of the water within the boundaries of the safety and security zones unless previously authorized by the Captain of the Port, Portland or his authorized patrol representative.

Dated: September 19, 2001.
M. P. O'Malley,
Commander, U.S. Coast Guard, Captain of the Port.

[FR Doc. 01-24538 Filed 10-1-01; 8:45 am]

BILLING CODE 4910-15-U